NUCLEAR REGULATORY COMMISSION

[Docket Nos. 50-483, 50-331, 50-321, 50-366, 50-341, 50-528, 50-529, and 50-530; NRC-2020-0110]

Issuance of Multiple Exemptions in Response to COVID-19 Public Health Emergency

AGENCY: Nuclear Regulatory Commission.

ACTION: Exemptions; issuance.

SUMMARY: The U.S. Nuclear Regulatory Commission (NRC) issued five exemptions in response to requests from five licensees. The exemptions afford these licensees temporary relief from certain requirements under NRC regulations. The exemptions are in response to the licensees' requests for relief due to the coronavirus disease 2019 (COVID-19) public health emergency (PHE). The NRC is issuing a single notice to announce the issuance of the exemptions.

DATES: During the period from January 5, 2021, to January 14, 2021, the NRC granted five exemptions in response to requests submitted by five licensees from December 18, 2020, to January 6, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from January 5, 2021, to January 14, 2021, the NRC granted five exemptions in response to requests submitted by five licensees from December 18, 2020, to January 6, 2021. These exemptions temporarily allow the licensees to deviate from certain requirements (as cited below) of various parts of chapter I of title 10 of the Code of Federal Regulations (10 CFR).

The exemptions from certain requirements of 10 CFR part 26, “Fitness for Duty Programs,” for Union Electric Company (for Callaway Plant, Unit No. 1); for DTE Electric Company (for Fermi-2); and for Southern Nuclear Operating Company, Inc. (for Edwin I. Hatch Nuclear Plant, Unit Nos. 1 and 2) afford these licensees temporary relief from the work-hour control requirements of 10 CFR 26.205(d)(1) through (d)(7). The exemptions from 10 CFR 26.205(d)(1) through (d)(7) will help to ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour control requirements of 10 CFR 26.205(d)(1) through (d)(7). These licensees have committed to site-specific COVID-19 PHE fatigue-management controls for personnel specified in 10 CFR 26.4(a).

The exemptions from certain requirements of 10 CFR part 73, appendix B, “General Criteria for Security Personnel,” section VI, “Nuclear Power Reactor Training and Qualification Plan for Personnel Performing Security Program Duties,” for NextEra Energy Duane Arnold, LLC (for Duane Arnold Energy Center) and for Arizona Public Service Company (for Palo Verde Nuclear Generating Station, Units 1, 2, and 3) will help to ensure that these regulatory requirements do not unduly limit licensee flexibility in using personnel resources to most effectively manage the impacts of the COVID-19 PHE on maintaining the safe and secure operation of these facilities and the implementation of the licensees' NRC-approved security plans, protective strategy, and implementing procedures. These licensees have committed to certain security measures to ensure response readiness and for their security personnel to maintain performance capability.

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Document description | ADAMS accession No.
Callaway Plant, Unit No. 1
Docket No. 50-483
Callaway Plant, Unit No. 1—Additional Request for Exemption from Specific Requirements of 10 CFR part 26, “Fitness for Duty Programs,” dated December 31, 2020 | ML20366A062.
Callaway Plant, Unit No. 1—Response to Request for Additional Information Pertaining to Additional Request for Exemption from Specific Requirements of 10 CFR part 26, “Fitness for Duty Programs,” dated January 7, 2021 | ML21007A374.
Callaway Plant, Unit No. 1—Exemption from Select Requirements of 10 CFR part 26 (EPID L-2020-LLE-0242 [COVID-19]), dated January 14, 2021 | ML21012A009.
Duane Arnold Energy Center
Docket No. 50-331
Duane Arnold Energy Center—Request for a One-Time Exemption from 10 CFR part 73, appendix B, section VI, subsection C.3.(I)(1) Regarding Annual Force-on-Force (FOF) Exercises due to COVID-19 Pandemic, dated December 29, 2020 | ML20364A039.
Duane Arnold Energy Center—Exemption from Annual Force-on-Force Exercise Requirements of 10 CFR part 73, appendix B, “General Criteria for Security Personnel,” subsection VI.C.3(I)(1) (EPID L-2020-LLE-0241 [COVID-19]), dated January 13, 2021 | ML21004A215.
Edwin I. Hatch Nuclear Plant, Unit Nos. 1 and 2
Docket Nos. 50-321 and 50-366
Edwin I. Hatch Nuclear Plant, Unit Nos. 1 and 2—COVID-19 Related Request for Exemption from 10 CFR part 26 Work Hours Requirements, dated January 6, 2021 | ML21006A227.
Edwin I. Hatch Nuclear Plant, Unit Nos. 1 and 2—Exemption from Select Requirements of 10 CFR part 26 (EPID L-2020-LLE-000 [COVID-19]), dated January 11, 2021 | ML21005A305.
Fermi-2
Docket No. 50-341
Fermi-2—Work Hour Limits Exemption Request due to COVID-19—Supplement, dated January 4, 2021 | ML21004A195.
Fermi-2—Exemption from Select Requirements of 10 CFR part 26 (EPID L-2021-LLE-0002 [COVID-19]), dated January 13, 2021 | ML21005A421.
Palo Verde Nuclear Generating Station, Units 1, 2, and 3
Docket Nos. 50-528, 50-529, and 50-530
Palo Verde Nuclear Generating Station (PVNGS) Units 1, 2, and 3 and Independent Spent Fuel Storage Installation (ISFSI) Request for a Temporary Exemption from 10 CFR part 73, appendix B, section VI, subsection A.7 and subsection C.3(I)(1), dated December 18, 2020 | ML20353A391.
Palo Verde Nuclear Generating Station, Units 1, 2, and 3—Exemption from Annual Force-on-Force Exercise Requirement of 10 CFR part 73, appendix B, “General Criteria for Security Personnel,” subsection A.7 (EPID L-2020-LLE-0237 [COVID-19]), dated January 5, 2021 | ML20355A000.

Dated: February 18, 2021.
For the Nuclear Regulatory Commission.
James G. Danna,
Chief, Plant Licensing Branch I, Division of Operating Reactor Licensing, Office of Nuclear Reactor Regulation.

[FR Doc. 2021-03743 Filed 2-23-21; 8:45 am]

BILLING CODE 7590-01-P